DEPARTMENT OF THE TREASURY

Departmental Offices: Privacy Act of 1974, as Amended

AGENCY: Departmental Offices, Treasury.

ACTION: Notice of Alteration of Privacy Act System of Records for the Home Affordable Modification Program.

SUMMARY: The U.S. Department of the Treasury gives notice of a proposed alteration to the system of records entitled “Home Affordable Modification Program—Treasury/DO.” The system was last published in its entirety in the Federal Register on April 20, 2010, at 75 FR 20699.

DATES: Comments should be received no later than July 2, 2010. The proposed routine use will be effective August 11, 2010 unless the Department receives comments that would result in a contrary determination.

ADDRESSES: Comments should be sent to the Deputy Assistant Secretary Fiscal Operations and Policy, Department of the Treasury, 1500 Pennsylvania Avenue, NW., Washington, DC 20220. The Department will make such comments available for public inspection and copying in the Department's Library, Room 1428, Main Treasury Building, 1500 Pennsylvania Avenue, NW., Washington, DC 20220, on official business days between the hours of 10 a.m. and 5 p.m. Eastern Time. You can make an appointment to inspect comments by telephoning (202) 622-0990 (this is not a toll-free number). All comments, including attachments and other supporting materials, received are part of the public record and subject to public disclosure. You should submit only information that you wish to make available publicly.

FOR FURTHER INFORMATION CONTACT: Theodore R. Kowalsky, Manager, Data & Information Technology, Office of Financial Agents, Department of the Treasury, 1500 Pennsylvania Avenue, NW., Washington, DC 20220, at 202-927-9445 (not a toll free number) or at Ted.Kowalsky@do.treas.gov.

SUPPLEMENTARY INFORMATION: The Department established the Home Affordable Modification Program (HAMP), pursuant to the Emergency Economic Stabilization Act of 2008 (Pub. L. 110-343) (the “EESA”), to enable eligible homeowners who have a record of making timely mortgage payments, but are experiencing hardships in doing so, to modify the principal amounts and interest rates of their mortgage loans. The purpose of this alteration to Routine Use (13) is to increase the number of Federal entities to whom information may be disclosed under the routine use by adding the Department of Justice (“DOJ”) and the Federal financial regulators who supervise and regulate financial institutions that participate in or receive certain benefits from HAMP, or who evaluate programs of similar design.

Additionally, the Bank of New York Mellon (“BNYM”) has been designated as another Financial Agent for the Home Affordable Modification Program (“HAMP”) and its facilities in Nashville, TN, and Somerset, NJ are being added under the heading “System Location.” The system of records notice was last published in its entirety on April 20, 2010, at 75 FR 20699.

The report of an altered system of records, as required by 5 U.S.C. 552a(r) of the Privacy Act, has been provided to the Committee on Oversight and Government Reform of the House of Representatives, the Committee on Homeland Security and Governmental Affairs of the Senate, and the Office of Management and Budget.

For the reasons set forth in this preamble, the Department proposes to alter system of records Treasury/DO .218, entitled “Home Affordable Modification Program,” as follows:

TREASURY/DO .218

System name:

Home Affordable Modification Program Records—Treasury/DO.

System Location:

Description of change. Remove the current entry and in its place add the following: “The Office of Financial Stability, Department of the Treasury, Washington, DC. Other facilities that maintain this system of records are located in: Urbana, MD, Dallas, TX, and a backup facility located in Reston, VA, all belonging to the Federal National Mortgage Association (“Fannie Mae”); in McLean, VA, Herndon, VA, Reston, VA, Richardson, TX, and Denver, CO, facilities operated by or on behalf of the Federal Home Loan Mortgage Corporation (“Freddie Mac”); and facilities operated by or on behalf of the Bank of New York Mellon (“BNYM”) in Nashville, TN, and a backup facility located in Somerset, NJ. Fannie Mae, Freddie Mac and Bank of New York Mellon have been designated as Financial Agents for the Home Affordable Modification Program (“HAMP”).”

* * * * *

Routine uses of records maintained in the system, including categories of users and the purposes of such uses:

* * * * *

Description of changes: The phrase “the Federal financial regulators, the U.S. Department of Justice (DOJ),” is added to Routine Use (13) between the phrases “Department of Housing & Urban Development,” and “and the Federal Housing.” In addition, the phrase “to ensure compliance with HAMP and other laws,” is added between the words “HAMP” and “and to report” such that Routine Use (13) is revised to read as follows:

“(13) Disclose information and statistics to the Department of Housing & Urban Development, Federal financial regulators, the U.S. Department of Justice (“DOJ”), and the Federal Housing Finance Agency to improve the quality of services provided under HAMP, to ensure compliance with HAMP and other laws, and to report on the program's overall execution and progress;”

* * * * *

Dated: June 21, 2010.
Melissa Hartman,
Acting Deputy Assistant Secretary for Privacy, Transparency, and Records.

[FR Doc. 2010-16162 Filed 7-1-10; 8:45 am]

BILLING CODE 4810-25-P